DEPARTMENT OF HEALTH AND HUMAN SERVICES

Centers for Disease Control and Prevention

[60Day-07-07BK]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Transgender HIV Behavioral Survey (THBS)—New—National Center for HIV, Hepatitis, STD, and TB Prevention (NCHHSTP), Centers for Disease Control and Prevention (CDC).

Background and Brief Description

The purpose of this data collection is to pilot a survey that will be used to monitor behaviors related to Human Immunodeficiency Virus (HIV) infection among transgender persons who are assigned a male sex at birth. The goal of the survey will be to obtain data from samples of transgender persons to (a) describe the prevalence in risk behaviors; (b) describe the prevalence of HIV testing and HIV infection; (c) describe the prevalence of the use of HIV prevention services; (d) identify met and unmet needs for HIV prevention services in order to inform health departments, community based organizations, community planning groups and other stakeholders. The objectives of the pilot will be to assess the content of the questionnaire as well as the efficiency and feasibility of the methods for sampling and recruiting transgender persons. This project addresses the goals of CDC's HIV Prevention Strategic Plan, specifically the goal of strengthening the national capacity to monitor the HIV epidemic to better direct and evaluate prevention efforts.

Data will be collected through in-person and computer-assisted self interviews conducted in 4 Metropolitan Statistical Areas (MSA) throughout the United States. The MSA chosen will be among those currently participating in the National HIV Behavioral Surveillance system (see Federal Registry dated January 19, 2007: Vol. 72, No. 12, pages 2529-2530). A brief in-person screening interview will be used to determine eligibility for participation in the full survey. Data for the full survey will be collected using computer-assisted self interviews. Besides determining the content of the final survey instrument and the sampling methods, the data from the full survey will provide estimates of behavior related to the risk of HIV and other sexually transmitted diseases, prior testing for HIV, and use of HIV prevention services. No other federal agency systematically collects this type of information from transgender persons at risk for HIV infection. This data will have substantial impact on prevention program development and monitoring at the local, state, and national levels.

CDC will request a 2-year clearance for this information collection. CDC estimates that, in each year, THBS will involve eligibility screening of a total of 240 persons and will collect survey information from 200 eligible respondents. Thus, over the two year period 480 persons are estimated to complete the screener and 400 eligible respondents to complete the survey. Participation of respondents is voluntary and there is no cost to the respondents other than their time.

Estimate of Annualized Burden Hours
Type of respondent | Form | Number of respondents | Number of responses per respondent | Average burden per response (in hours) | Total burden (in hours)
General public | Screener | 240 | 1 | 5/60 | 20
General public | Survey | 200 | 1 | 55/60 | 183
Total |  |  |  |  | 203

Dated: July 18, 2007.
Maryam I. Daneshvar,
Acting Reports Clearance Officer, Centers for Disease Control and Prevention.

[FR Doc. E7-14283 Filed 7-23-07; 8:45 am]

BILLING CODE 4163-18-P